DEPARTMENT OF JUSTICE

Community Oriented Policing Services Public Meetings With Members of the Research Community, Subject-Matter Experts and the Public To Discuss Topics Relating to Policing; Correction

AGENCY: Community Oriented Policing Services, Justice.

ACTION: Notice; correction.

SUMMARY: The U.S. Department of Justice published a document in the Federal Register of January 15, 2015, concerning a public meeting notice to discuss topics relating to policing. The document contained times and topics that require updating.

FOR FURTHER INFORMATION CONTACT: Ronald L. Davis, 202-514-4229 or PolicingTaskForce@usdoj.gov.

Correction

In the Federal Register of January 15, 2015, in FR Doc. 2015-00546, on page 2122-2123, in the first column, correct the SUMMARY and DATES caption to read:

SUMMARY: On December 18, 2014, President Barack Obama signed Executive Order 13684 titled “Establishment of the President's Task Force on 21st Century Policing” establishing the President's Task Force on 21st Century Policing (“Task Force”). The Task Force seeks to identify best practices and make recommendations to the President on how policing practices can promote effective crime reduction while building public trust and examine, among other issues, how to foster strong, collaborative relationships between local law enforcement and the communities they protect. The Task Force will be holding a public meeting to address the topics of Policy & Oversight and Technology & Social Media. The meeting agenda is as follows:

Call to Order

Invited witness testimony on Policy & Oversight (January 30)

Invited witness testimony on Technology & Social Media (January 31)

Break

Discussion

DATES: The meeting dates are:

1. January 30, 2015 10:00 a.m. to 6:00 p.m. Eastern Standard Time, Cincinnati, OH.

2. January 31, 2015 9:00 a.m. to 5:00 p.m. Eastern Standard Time, Cincinnati, OH.

Dated: January 15, 2015.
Ronald L. Davis,
Director.

[FR Doc. 2015-01102 Filed 1-22-15; 8:45 am]

BILLING CODE 4410-AT-P